DEPARTMENT OF ENERGY

Federal Energy Regulatory Commission

[Project No. 9988-015]

Augusta Canal Authority; Notice of Application Ready for Environmental Analysis and Soliciting Comments, Recommendations, Terms and Conditions, and Prescriptions

July 9, 2008.

Take notice that the following hydroelectric application has been filed with the Commission and is available for public inspection.

a. Type of Application: New Major License.

b. Project No.: P-9988-015.

c. Date filed: May 31, 2007.

d. Applicant: Augusta Canal Authority.

e. Name of Project: King Mill Hydroelectric Project.

f. Location: The King Mill Project is located on the Augusta Canal about 6 miles downstream of the Augusta Diversion Dam, adjacent to the Savannah River, Richmond County, Augusta, GA. The project does not affect federal lands.

g. Filed Pursuant to: Federal Power Act 16 U.S.C. 791(a)-825(r)

h. Applicant Contact: Mr. Dayton Sherrouse, Executive Director, Augusta Canal Authority, 1450 Green Street, Suite 400, Augusta, GA 30901; Telephone (706) 823-0440, Ext. 1.

i. FERC Contact: Sarah Florentino, Telephone (202) 502-6863, or e-mail sarah.florentino@ferc.gov. Additional information on Federal Energy Regulatory Commission (FERC) hydroelectric projects is available on FERC's Web site: http://www.ferc.gov/industries/hydropower.asp

j. The deadline for filing comments, recommendations, terms and conditions, and prescriptions is 60 days from the issuance of this notice (September 8, 2008) and reply comments are due 105 days from the issuance date of this notice (October 21, 2008).

All documents (original and eight copies) should be filed with: Kimberly D. Bose, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Comments, recommendations, terms and conditions, and prescriptions may be filed electronically via the Internet in lieu of paper. The Commission strongly encourages electronic filings. See 18 CFR 385.2001(a)(1)(iii) and the instructions on the Commission's Web site (http://www.ferc.gov) under the “e-Filing” link.

k. This application has been accepted and is ready for environmental analysis at this time.

l. Project description: The existing King Mill Hydroelectric Project consists of: (1) Intake works consisting of a 50-foot-long, 15-foot-high headgate and intake structure; (2) primary and secondary steel trash racks; (3) a 200-foot-long, 40-foot-wide, concrete-lined, open flume head race; (4) a 435-foot-long, 30-foot-wide brick and masonry powerhouse; (5) two vertical shaft turbine/generator units with an installed capacity of 2.25 megawatts; (6) a 435-foot-long, 30-foot-wide, concrete-lined, open tailrace section which returns flows to the Augusta Canal; and (7) appurtenant facilities. There is no dam or impoundment, as approximately 881 cfs of water is withdrawn from the Augusta Canal when operating at full capacity. Developed head is approximately 32 feet. The estimated generation is 14,366 MWh annually. Nearly all generated power is utilized by the Standard Textile Plant, located within the King Mill building, for textile production. No new facilities or changes in project operation are proposed.

m. A copy of the application is available for review at the Commission in the Public Reference Room or may be viewed on the Commission's Web site at http://www.ferc.gov using the “eLibrary link.” Enter the docket number excluding the last three digits in the docket number field to access the document. For assistance, contact FERC Online Support at FERCOnlineSupport@ferc.gov or toll-free at 1-866-208-3676, or for TTY, (202) 502-8659. A copy is also available for inspection and reproduction at the address in item h above.

All filings must: (1) Bear in all capital letters the title “COMMENTS”, “REPLY COMMENTS,” “RECOMMENDATIONS,” “TERMS AND CONDITIONS,” or “PRESCRIPTIONS;” (2) set forth in the heading the name of the applicant and the project number of the application to which the filing responds; (3) furnish the name, address, and telephone number of the person submitting the filing; and (4) otherwise comply with the requirements of 18 CFR 385.2001 through 385.2005. All comments, recommendations, terms and conditions, or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b), and 385.2010.

You may also register online at http://www.ferc.gov/docs-filing/esubscription.asp to be notified via e-mail of new filings and issuances related to this or other pending projects. For assistance, contact FERC Online Support.

n. A license applicant must file no later than 60 days following the date of issuance of this notice: (1) A copy of the water quality certification; (2) a copy of the request for certification, including proof of the date on which the certifying agency received the request; or (3) evidence of waiver of water quality certification.

Kimberly D. Bose,
Secretary.

[FR Doc. E8-16201 Filed 7-15-08; 8:45 am]

BILLING CODE 6717-01-P